DEPARTMENT OF ENERGY

Federal Energy Regulatory Commission

Notice of Application for Amendment of Initial License, Revising Exhibit G of Application for New License, and Soliciting Comments, Motions To Intervene, and Protests

March 3, 2003.

Take notice that the following application has been filed with the Commission and is available for public inspection:

a. Application Type: Application for a non-capacity amendment of license for the Sherman Island Development of the Hudson River Project. The licensee proposes two project boundary changes of the Sherman island Development.

b. Project No: 2482-039.

c. Date Filed: May 6, 2002.

d. Applicant: Erie Boulevard Hydropower, L.P.

e. Name of Project: Hudson River.

f. Location: The project is located on the Hudson River in the Town of Moreau, Saratoga County and the Town of Queensbury, Warren County, New York.

g. Filed Pursuant to: Federal Power Act, 16 U.S.C. 791(a)-825(r) and 799 and 801.

h. Applicant Contact: Jerry L. Sabattis, Licensing Coordinator, Erie Boulevard Hydropower, L.P., 225 Greenfield Parkway, Suite 201, Liverpool, New York 13088, (315) 413-2787.

i. FERC Contact: Any questions on this notice should be addressed to Ms. Patricia W. Gillis (202) 502-8735, or e-mail address: Patricia.Gillis@ferc.gov.

j. Deadline for filing comments and or motions: March 31, 2003.

All documents (original and eight copies) should be filed with: Magalie R. Salas, Secretary, Federal Energy Regulatory Commission, 888 First Street, NE., Washington DC 20426. Please include the project number (P-2482-039) on any comments or motions filed.

k. Description of Request: The licensee, Erie Boulevard Hydropower, L.P., proposes to remove three parcels, totaling 34.7 acres of non-essential project land, presently included within the project for both the existing license boundary and the new license application. Removing these lands from the project would not affect project operation and would be consistent with the existing and planned use of these lands. Of the 34.7 acre total, 11.7 acres would be removed from the project in the Town of Moreau, Saratoga County and 23 acres would be removed from the project in the Town of Queensbury, Warren County, New York.

l. Since the filing of this application, the relicensing process has been completed, a new license has been issued, and the initial license is no longer in effect. Therefore, this application will be construed as an application to amend the current new license.

m. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 or e-mail FERCOnlineSupport@ferc.gov . For TTY, call (202) 502-8659. A copy is also available for inspection and reproduction at the address in item (h) above.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filings must bear in all capital letters the title “Comments”, “Protest”, or “Motion to Intervene”, as applicable, and the Project Number of the particular application to which the filing refers. A copy of any motion to intervene must also be served upon each representative of the Applicant specified in the particular application.

q. Agency Comments: Federal, state, and local agencies are invited to file comments on the described application. A copy of the application may be obtained by agencies directly from the Applicant. If an agency does not file comments within the time specified for filing comments, it will be presumed to have no comments. One copy of an agency's comments must also be sent to the Applicant's representatives.

r. Comments, protests and interventions may be filed electronically via the Internet in lieu of paper. See 18 CFR 385.2001(a)(1)(iii) and the instructions on the Commission's Web site at http://www.ferc.gov under the “e-Filing” link.

Magalie R. Salas,
Secretary.

[FR Doc. 03-5800 Filed 3-11-03; 8:45 am]

BILLING CODE 6717-01-P